Title 3—

The President

Memorandum of December 27, 2013

Provision of Aviation Insurance Coverage for Commercial Air Carrier Service in Domestic and International Operations

Memorandum for the Secretary of Transportation

By the authority vested in me as President by the Constitution and the laws of the United States, including 49 U.S.C. 44301-44310, I hereby:

1. Determine that the continuation of U.S. air transportation is necessary in the interest of air commerce, national security, and the foreign policy of the United States.

2. Approve provision by the Secretary of Transportation of insurance or reinsurance to U.S.-certificated air carriers against loss or damage arising out of any risk from the operation of an aircraft, in the manner and to the extent provided in chapter 443 of title 49, United States Code, until January 15, 2014, if he determines that such insurance or reinsurance cannot be obtained on reasonable terms from any company authorized to conduct an insurance business in a State of the United States.

3. Delegate to the Secretary of Transportation the authority, vested in me by 49 U.S.C. 44306(c), to extend this approval and determination through December 31, 2014, or until any date prior to December 31, 2014, provided that the Congress further extends the date contained in section 44310 and further provided that he not use this delegation to extend this determination and approval beyond the dates authorized under any such provision of law with an ending effective date prior to December 31, 2014.

You are directed to bring this determination immediately to the attention of all air carriers, as defined in 49 U.S.C. 40102(a)(2), and to arrange for its publication in the Federal Register.

THE WHITE HOUSE,

Washington, December 27, 2013

[FR Doc. 2014-00004

Filed 1-2-14; 11:15 am]

Billing code 4910-09